FEDERAL COMMUNICATIONS COMMISSION

47 CFR Chapter I

Possible Revision or Elimination of Rules

AGENCY: Federal Communications Commission.

ACTION: Review of regulations under the Regulatory Flexibility Act; comments requested.

SUMMARY: This document invites members of the public to comment on the Commission's rules to be reviewed pursuant to Section 610 of the Regulatory Flexibility Act of 1980. The purpose of the review is to determine whether Commission rules whose ten-year anniversary dates are in the years 2000 through 2002, as contained in the Appendix, should be continued without change, amended, or rescinded in order to minimize any significant impact the rules may have on a substantial number of small entities. Upon receipt of comments from the public, comments will be evaluated and action may be taken to rescind or amend the Commission's rules.

DATES: Comments may be filed on or before November 8, 2002.

FOR FURTHER INFORMATION CONTACT: Carolyn Fleming Williams or Karen Beverly, Office of Communications Business Opportunities, Federal Communications Commission, (202) 418-0990.

ADDRESSES: Federal Communications Commission, Office of Secretary, 445 12th Street, SW., Washington, DC 20554.

SUPPLEMENTARY INFORMATION: Each year an opportunity will be created for review and comment by interested parties on the Commission's rules that may require amendment or rescission.

1. Pursuant to the Regulatory Flexibility Act of 1980, see 5 U.S.C. section 610, the Federal Communications Commission (FCC) hereby publishes a plan for the review of rules issued by the agency in calendar years 1990, 1991 and 1992 which have, or might have, a significant economic impact on a substantial number of small entities. The purpose of the review will be to determine whether such rules should be continued without change, or should be amended or rescinded, consistent with the stated objectives of applicable statutes, to minimize any significant economic impact of such rules upon a substantial number of small entities.

2. This document lists the FCC regulations to be reviewed during the next twelve months. In succeeding years, as here, lists will be published for the review of regulations promulgated ten years proceeding the year of review.

3. In reviewing each rule under this plan to minimize the possible significant economic impact on small entities, consistent with the stated objectives of the applicable statutes, the FCC will consider the following factors:

(a) The continued need for the rule;

(b) The nature of complaints or comments received concerning the rule from the public;

(c) The complexity of the rule;

(d) The extent to which the rule overlaps, duplicates, or conflicts with other Federal rules, and, to the extent feasible, with State and local governmental rules; and

(e) The length of time since the rule has been evaluated or the degree to which technology, economic conditions, or other factors have changed in the area affected by the rule.

4. Appropriate information has been provided for each rule, including a brief description of the rule and the need for and legal basis of the rule. The public is invited to comment on the rules chosen for review by. All relevant and timely comments will be considered by the FCC before final action is taken in this proceeding. To file formally in this proceeding, participants should file an original and four copies of all comments. Comments will be available for public inspection during regular business hours in the FCC Reference Center of the Federal Communications Commission, 445 12th Street, SW., Washington, DC 20554.

Federal Communications Commission.
Marlene H. Dortch,
Secretary.

List of Rules for Review Pursuant to the Regulatory Flexibility Act of 1980, 5 U.S.C. 610, for 1990, 1991, 1992. All listed rules are in Title 47 of the Code of Federal Regulations.

PART 25—SATELLITE COMMUNICATIONS

Subpart B—Application and Licenses

Brief Description: These rules establish the requirements and conditions under which space and earth stations may be licensed.

Need: To establish proper procedures for submitting the correct information for filing space and earth stations applications.

Legal Basis: 47 U.S.C. 154, 301, 302, 303, 307, 309, 332.

Section Number and Title:

25.110 Filing of applications, fees, and number of copies.

25.111 Additional information.

25.112 Defective applications.

25.113 Construction permits, station licenses, launch authority.

25.114 Applications for space station authorizations.

25.115 Application for earth station authorizations.

25.116 Amendments to applications.

25.117 Modification of station license.

25.118 Modifications not requiring prior authorization.

25.119 Assignment or transfer of control of station authorization.

25.120 Application for special temporary authorization.

25.121 License term and renewals.

25.130 Filing requirements for transmitting earth stations.

25.131 Filing requirements for receive-only earth stations.

25.132 Verification of earth station antenna performance standards.

25.133 Period of construction; certification of commencement of operation.

25.134 Licensing provisions of Very Small Aperture Terminal (VSAT) networks.

25.135 Licensing provisions for earth station networks in the non-voice, non-geostationary mobile-satellite service.

25.136 Operating provisions for earth station networks in the 1.6/2.4 GHz mobile-satellite service.

25.137 Application requirements for earth stations operating with non-U.S. licensed space stations.

25.138 Blanket licensing provisions of GSO FSS Earth Stations in the 18.58-18.8 GHz (space-to-Earth), 19.7-20.2 GHz (space-to-Earth), 28.35-28.6 GHz (Earth-to-space) and 29.5-30.0 GHz (Earth-to-space) bands.

25.140 Qualifications of fixed-satellite space station licensees.

25.141 Licensing provisions for the radio determination satellite service.

25.142 Licensing provisions for the non-voice, non-geostationary mobile-satellite service.

25.143 Licensing provisions for the 1.6/2.4 GHz mobile-satellite service.

25.144 Licensing provisions for the 2.3 GHz satellite digital audio radio service.

25.145 Licensing conditions for the Fixed-Satellite Service in the 20/30 GHz bands.

25.150 Receipt of applications.

25.151 Public notice period.

25.152 Dismissal and return of applications.

25.153 Repetitious applications.

25.154 Opposition to applications and other pleadings.

25.155 Mutually exclusive applications.

25.156 Consideration of applications.

25.160 Administrative sanctions.

25.161 Automatic termination of station authorization.

25.162 Cause for termination of interference protection.

25.163 Reinstatement.

Subpart D—Technical Operations

Brief Description: This rule requires that all video satellite uplink transmissions, licensed under Part 25 be encoded with a signal to identify the station. The rules specifies that a subcarrier based system will be used to transmit the identification.

Need: The need for better radio spectrum management to control interference, allow flexibility to deal with new technology and standardize the proliferating number of pseudo-automatic identification systems now coming into use make this item necessary. The intended effect is improved radio spectrum management.

Legal Basis: 47 U.S.C. 154, 301, 302, 303, 307, 309, 332.

Section Number and Title:

25.281 Automatic Transmitter Identification System (ATIS).

PART 43—REPORTS OF COMMUNICATION COMMON CARRIERS AND CERTAIN AFFILIATES

Brief Description: The rule sets forth the requirements and procedures for carriers to file information on their U.S. international telecommunications traffic including minutes and revenues.

Need: The rule provides essential data that is used by both the agency and carriers for international facilities planning, facility authorization, monitoring emerging developments in communications services, analyzing market structures, tracking the balance of payments in international communications services, and market analysis purposes.

Legal Basis: 47 U.S.C. 154, 201, 203, 219.

Section Number and Title:

43.61 Reports of international telecommunications traffic.

PART 64—MISCELLANEOUS RULES RELATING TO COMMON CARRIERS

Brief Description: The rule sets forth the procedures for U.S. carriers, engaged in international telecommunications, seeking approval to make changes in accounting rates.

Need: The rule provides U.S. carriers with a mechanism to quickly seek agency approval to implement simple accounting rate changes. The rule also enables the Commission to monitor the international accounting rates of carriers to ensure consistency with agency policies and the public interest.

Legal Basis: 47 U.S.C. 154, 201, 211.

Section Number and Title:

64.1001 International settlements policy and modification requests.

Rule | Year added | Bureau or office
1.17 | 1990 | EB
1.65(c) | 1990, 1991 | EB
1.80(a)(4), (b)(3) | 1990 | EB
1.791 | 1990 | CCB
1.824 | 1991 | MMB
1.931(a) | 1991 | WTB

Office of General Counsel

Subpart I—Procedures Implementing the National Environmental Policy Act of 1969

Brief Description: These rules implement the National Environmental Policy Act of 1969, including actions that may have a significant impact on the environment and require the preparation of an Environmental Assessment (EA), and the determination of environmental impacts for the construction of facilities where no preconstruction authorization from the Commission is required.

Need: These rules implement the National Environmental Policy Act of 1969.

Legal Basis: 42 U.S.C. 4321-4335.

Section Number and Title:

1.1307(b) notes 1, 2, 3 Actions that may have a significant environmental effect for which Environmental Assessments (EAs) must be prepared

1.1312 Facilities for which no preconstruction authorization is required.

Subpart P—Implementation of the Anti-Drug Abuse Act of 1988

Brief Description: These rules implement the Anti-Drug Abuse Act of 1988 to determine the eligibility for professional and commercial licenses issued by the Commission with respect to any denials of Federal benefits imposed by Federal or state courts.

Need: These rules implement the Anti-Drug Abuse Act of 1988.

Legal Basis: 21 U.S.C. 862.

Section Number and Title:

1.2001 Purpose.

1.2002 Applicants Required to submit information.

1.2003 Applications affected.

PART 22—PUBLIC MOBILE SERVICES

Subpart H—Cellular Radiotelephone Service

Brief Description: These rules prescribe procedures for Cellular Radiotelephone Service licensees in the public mobile services.

Need: These rules are established to provide procedures for cellular licensees. The rules govern licensing, technical standards, and other matters relating to cellular service.

Legal Basis: 47 U.S.C. 154, 303, 309, 332.

Section Number and Title:

22.911 Cellular geographic service area.

22.943(b) Limitations on assignments and transfers of cellular authorizations.

22.945(c) Interests in multiple applications.

22.947(c) Five year build-out period.

22.949 Unserved area licensing process.

22.951 Minimum coverage requirement.

22.953 Conten and form of applications.

PART 80—STATIONS IN THE MARITIME SERVICES

Brief Description: These rules include radio services in the Maritime Mobile Service, the Maritime Mobile-Satellite Service, the Maritime Radiodetermination Service, and stations in the Fixed Service that support maritime operations. Regardless of service, marine stations are either considered to be stations on shipboard or stations on land. A license is required for each land station. Ship stations are licensed by rule (no individual license needed) when they operate only on domestic voyages and are not required by law to carry a radio. Rules concerning domestic marine communications are matched to requirements of the U.S. Coast Guard, which monitors marine distress frequencies continuously in U.S. waters.

Need: These marine radio service rules are promulgated to promote safety and operational activities of nonfederal maritime activities, including U.S. vessels that traverse international waters. The rules also reduce radio interference among radio users by promoting the efficient use of the radio spectrum.

Legal Basis: Secs. 4, 303, 48 Stat. 1064-1068, 1081-1105, as amended; 47 U.S.C. 151-155, 301-609; 3 UST 3450; 3 UST 4726; 12 UST 2377.

Section Number and Title:

Subpart B—Applications and Licenses

80.54 Automated Maritime Telecommunications System (AMTS)—system licensing.

Subpart C—Operating Requirements and Procedures

80.122 Public coast stations using facsimile and data.

80.141 General provisions for ship stations.

Subpart E—General Technical Standards

80.203 Authorization of transmitters for licensing.

80.205 Bandwidths.

80.207 Classes of emission.

80.211 Emission limitations.

80.213 Modulation requirements.

80.223 Special requirements for survival craft stations.

Subpart G—Safety Watch Requirements and Procedures

80.310 Watch required by voluntary vessels.

Subpart H—Frequencies

80.355 Distress, urgency, safety, call and reply Morse code frequencies.

80.357 Morse code working frequencies.

80.363 Frequencies for facsimile.

80.371 Public correspondence frequencies.

80.373 Private communications frequencies.

80.374 Special provisions for frequencies in the 4000-4063 kHz and the 8100-8195 kHz bands shared with the fixed service.

80.375 Radiodetermination frequencies.

80.385 Frequencies for automated systems.

80.387 Frequencies for Alaska fixed stations.

Subpart K—Private Coast Stations and Marine Utility Stations

80.514 Marine VHF frequency coordinating committee(s).

Subpart Q—Compulsory Radiotelegraph Installations for Vessels 1600 Gross Tons

80.802 Inspection of Stations.

80.836 General Exemptions.

Subpart S—Compulsory Radiotelephone Installations for Small Passenger Boats

80.909 Radiotelephone transmitter.

80.913 Radiotelephone receivers.

80.923 Antenna system.

80.931 Test of radiotelephone installation.

Subpart U—Radiotelephone Installations Required by the Bridge-to-Bridge Act

80.1001 Applicability.

80.1011 Transmitter.

80.1013 Receiver.

Subpart V—Emergency Position Indicating Radiobeacons (EPIRB'S)

80.1059 Special Requirements for Class S EPIRB stations.

80.1061 Special Requirements for 406.025 MHz EPIRBs.

Subpart W—Global Maritime Distress and Safety System (GMDSS)

80.1065 Applicability.

80.1067 Inspection of station.

80.1069 Maritime sea areas.

80.1071 Exemptions.

80.1073 Radio operator requirements for ship stations.

80.1074 Radio maintenance personnel for at-sea maintenance.

80.1075 Radio records.

80.1077 Frequencies.

80.1081 Functional Requirements.

80.1083 Ship radio installations.

80.1085 Ship radio equipment-General.

80.1087 Ship radio equipment-Sea area A1.

80.1089 Ship radio equipment-Sea areas A1 and A2.

80.1091 Ship radio equipment-Sea areas A1, A2 and A3.

80.1093 Ship radio equipment-Sea areas A1, A2, A3 and A4.

80.1095 Survival craft equipment.

80.1099 Ship sources of energy.

80.1101 Performance standards.

80.1103 Equipment authorization.

80.1105 Maintenance Requirements.

80.1109 Distress, Urgency, and safety communications.

80.1111 Distress alerting.

80.1113 Transmission of a distress alert.

80.1115 Transmission of a distress alert by a station not itself in distress.

80.1117 Procedure for receipt and acknowledgment of distress alerts.

80.1119 Receipt and acknowledgement of distress alerts by coast stations and coast earth stations.

80.1121 Receipt and acknowledgement of distress alerts by ship stations and ship earth stations.

80.1123 Watch requirements for ship stations.

80.1125 Search and rescue coordinating communications.

80.1127 On-scene communications.

80.1129 Locating and homing signals.

80.1131 Transmissions of urgency communications.

80.1133 Transmissions of safety communications.

80.1135 Transmissions of maritime safety information.

PART 87—AVIATION SERVICES

Brief Description: The Aviation Services consist of three internationally-allocated services. (1) The Aeronautical Mobile Service includes aeronautical advisory stations, aeronautical enroute stations, airport control stations, and automatic weather observation stations. (2) The Aeronautical Radio Navigation Service includes stations used for navigation, obstruction warning, instrument landing, and measurement of altitude and range. (3) The Aeronautical Fixed Service is a system of fixed stations used for point-to-point communications for aviation safety, navigation, or preparation for flight. The Commission regulates the Aviation Services in cooperation with the Federal Aviation Administration.

Need: These aviation radio services rules are promulgated to promote safety and provide systems of non-governmental use of radio for aeronautical communications, aeronautical radio navigation, and search and rescue operations. The rules also reduce radio interference among radio users by promoting the efficient use of the radio spectrum.

Legal Basis: 48 Stat. 1064-1068, 1081-1105, as amended; 47 U.S.C. 151, 152, 153, 154, 155, 156, 301 through 609.

Section Number and Title:

Subpart A-General Information

87.5 Definitions.

Subpart B-Applications and Licenses

87.51 Aircraft earth station commissioning.

Subpart D-Technical Requirements

87.131 Power and emissions.

87.133 Frequency stability.

87.137 Types of emission.

87.139 Emission limitations.

87.141 Modulation requirements.

87.145 Acceptability of transmitters for licensing.

87.147 Authorization of equipment.

Subpart E-Frequencies

87.171 Class of station symbols.

87.173 Frequencies.

Subpart F-Aircraft Stations

87.175 Scope of Service.

87.187 Frequencies.

87.189 Requirements for public correspondence equipment and operations.

Subpart G-Aeronautical Advisory Stations (UNICOMS)

87.213 Scope of Service.

87.215 Supplemental Eligibility.

87.217 Frequencies.

Subpart I-Aeronautical Enroute and Aeronautical Fixed Stations

87.263 Frequencies.

Subpart J-Flight Test Stations

87.303 Frequencies.

Subpart L-Aeronautical Utility Mobile Stations

87.347 Supplemental Eligibility.

87.349 Frequencies.

Subpart O-Airport Control Tower Stations

87.419 Supplemental Eligibility.

87.421 Frequencies.

87.425 Interference.

PART 90—PRIVATE LAND MOBILE RADIO SERVICES

Brief Description: These services include both Private Land Mobile Radio (PLMR) services and Commercial Mobile Radio Services (CMRS). PLMR services allow businesses, local governments, public safety entities, educational institutions, hospitals, service providers and utilities to build their own internal communication systems to meet specialized needs. CMRS provides service to customers. CMRS services regulated under Part 90 include the provision of service to Industrial/Business Pool below 470 MHz on a for-profit basis, the Specialized Mobile Radio Service, the 220 MHz Service, the Location and Monitoring Service, and Private Paging. Channels are in the 30-50, 150-170, 220-222, 420-512, 700, 800, and 900 MHz bands. Some channels are shared; others are exclusive. Frequencies are often assigned in pairs for use in two-way communications. Common uses are for dispatch communications, alerting, monitoring, alarms, operational communications, and the provision of service (either on a private carriage basis or as a Commercial Mobile Radio Service) to others.

Need: These land mobile radio services rules are promulgated to promote flexibility to radio users in meeting their communications needs where communications are used as a tool for businesses to provide their products and services more economically.

Legal Basis: Secs. 4, 303; 48 Stat., as amended 1066, 1082; 47 U.S.C. 154, 303.

Section Number and Title:

Subpart G—Applications and Authorizations

90.127 Submission and filing of applications.

90.135 Modification of license.

Subpart J—Non-Voice and Other Specialized Operations

90.235 Secondary fixed signaling operations.

Subpart K—Standards for Special Frequencies or Frequency Bands

90.257 Assignment and use of frequencies in the band 72-76 MHz.

Subpart L—Authorizing in the Band 470-512 MHz (UHF-TV Sharing)

90.317 Fixed ancillary signaling and data transmissions.

Subpart S—Regulations Governing Licensing and Use of Frequencies in the 806-824, 851-869, 896-901, and 935-940 MHZ Bands.

90.609 Special limitations on amendment of applications for assignment or transfer of authorizations for radio systems above 800 MHz.

90.619 Frequencies available for use in the U.S./Mexico and U.S./Canada border areas.

90.621 Selection and assignment of frequencies.

90.637 Restrictions on operational fixed stations.

90.655 Special licensing requirements for Specialized Mobile Radio systems.

90.656 Responsibilities of base station licensees of Specialized Mobile Radio systems.

90.658 Loading data required for base station licensees of trunked Specialized Mobile Radio systems to acquire additional channels or to renew trunked systems licensed before June 1, 1993.

PART 95—PERSONAL RADIO SERVICES

Brief Description: The Personal Radio Services provide the general public with short-range wireless communications for a variety of activities. The services include the General Mobile Radio Service (GMRS), the Family Radio Service (FRS), the Radio Control Radio Service (R/C Service), the Citizens Band Radio Service, the 218-219 MHz Service, the Low Power Radio Service (LPRS), the Wireless Medical Telemetry Service (WMTS), and the Medical Implant Communications Service (MICS). GMRS allows short-range two-way communications to facilitate the activities of the licensee and their immediate family members. FRS allows short-range voice communications. The R/C Service allows the remote operation and control devices such as model airplanes and aircraft. The 218-219 MHz Service is a two-way radio service that allows licensees to provide communications services to subscribers in a specific service area. LPRS is used to provide auditory assistance communications for people with disabilities or people requiring language translation, health care related communications, and law enforcement tracking signals. WMTS is used to measure and record physiological parameters and other patient-related information. MICS is used to transmit operational, diagnostic, or therapeutic information concerning medical implant devices to health care professionals.

Need: These personal radio services rules are promulgated to promote flexibility of users to take advantage of new technology and equipment.

Legal Basis: Secs. 4, 303; 48 Stat. 1066, 1082, as amended; 47 U.S.C. 154, 303.

Section Number and Title:

Subpart D—Citizens Band (CB) Radio Service

95.418 (CB Rule 18) How do I use my CB station in an emergency or to assist a traveler?

Subpart E—Technical Regulations

95.623 R/C transmitter channel frequencies.

PART 2—FREQUENCY ALLOCATIONS AND RADIO TREATY MATTERS; GENERAL RULES AND REGULATIONS

Subpart A—Terminology

Brief Description: This rule provides definitions for terms used in rules.

Need: This rule is essential for the implementation and understanding of other rule sections.

Legal Basis: 47 U.S.C. 302.

2.1(c) Definitions.

PART 2—FREQUENCY ALLOCATIONS AND RADIO TREATY MATTERS; GENERAL RULES AND REGULATIONS

Subpart B—Allocation, Assignment and Use of Radio Frequencies

Brief Description: These rules display the Table of Frequency Allocations, which sets forth a “road map” of the service allocations of radio frequency spectrum throughout the world. The Table of Allocations also indicates how spectrum is allocated among Federal Government users, who are subject to the regulatory jurisdiction of the Department of Commerce's National Telecommunications and Information Administration, and non-Federal users, who are subject to the Commission's jurisdiction. The table further shows the services to which the various spectrum bands are allocated. The precise technical rules governing each service regulated by the Commission, however, are set forth in the several other parts of the Commission's rules.

Need: These rules are promulgated to promote the efficient use of the radio spectrum in order to prevent harmful interference among users of radio frequencies, to ensure safety of life and property, and to promote interoperability among radio frequencies throughout the world.

Legal Basis: 47 U.S.C. 154, 303.

Section Number and Title:

2.106 Table of Frequency Allocations

Subpart J—Equipment Authorization Procedures

Brief Description: These rules provide technical standards for radio equipment and their part and components.

Need: These rules permit the Commission to carry out its responsibilities under the Communications Act and the various treaties and international regulations, and to promote the efficient utilization of the spectrum.

Legal Basis: 47 U.S.C. 154, 303.

Section Number and Title:

2.948 Description of measurement facilities

2.1033(b)(11) Application for certification

2.1055(a)(2) Measurements required; Frequency stability

Subpart K—Importation of Devices Capable of Causing Harmful Interference

Brief Description: These rules are designed to prevent interference from radio-frequency devices and to facilitate the filing of FCC Form 740 information regarding equipment importation.

Need: These rules control technical criteria, reducing filing and handling burden on both importers and the federal government, including the U.S. Customs Service.

Legal Basis: 27 U.S.C. 154(I), 302, 303(r).

Section Number and Title:

2.1201 Purpose

2.1202 Exclusions

2.1203 General requirement for entry into the U.S.A.

2.1204 Import conditions

2.1205 Filing of required declaration

2.1207 Examination of imported equipment

Subpart N—FCC Procedure for Testing Class A, B, and S Emergency Position Indicating Radiobeacons (EPIRBs)

Brief Description: These rules set standards for testing Class A, B, and S Emergency Position Indicating Radiobeacons (EPIRBs)

Need: These rules are necessary to provide manufacturers with information necessary to develop EPIRB equipment that will comply with technical standards, and to ensure the appropriate measurement of such equipment to determine its compliance with our technical rules.

Legal Basis: 47 U.S.C. 154, 302

Section Number and Title:

2.1 Introduction

2.1503 Test environment

2.1505 Test instrumentation and equipment

2.1507 Test frequencies

2.1509 Environmental and duration tests

2.1511 Measurements of radiated emissions

2.1513 Measurements of modulation characteristics

2.151 Spectral Measurements

2.1517 Data recording/reporting requirements

PART 5—EXPERIMENTAL RADIO SERVICE (OTHER THAN BROADCAST)

Subpart B—Applications and Licenses

Brief Description: These rules set out eligibility, application, licensing and operating procedures and requirements for experimental stations.

Need: These rules permit the experimentation in new radio technology and applications while ensuring the protection of incumbent services.

Legal Basis: 47 U.S.C. 154, 302, 307.

Section Number and Title:

5.51(c) Eligibility of license

5.53(b) Stations authorization required

PART 15—RADIOFREQUENCY DEVICES

Brief Description: These rules provide the parameters necessary to permit the unlicensed operation of radiofrequency devices, including specification of the levels of wanted and unwanted emissions and frequencies of permitted operation

Need: These rules are necessary to promote the efficient use of the radio spectrum by preventing harmful interference to licensed radio services that share the same or nearby spectrum as unlicensed devices. Such licensed services include broadcast, cellular, safety-of-life communications, U.S. Government operations, and others.

Legal Basis: 47 U.S.C. 154, 302, 307.

Section Number and Title:

Subpart A—General

15.3 Definitions

15.31 Measurement standards

15.35 Measurement detector functions and bandwidths

15.13 Transition provisions for compliance with the rules

Subpart B—Unintentional Radiators

15.107 Conducted limits

15.109 Radiated emission limits

15.115 TV interface devices, including cable system terminal devices

15.119 Closed caption decoder requirements for analog television receivers

Subpart C—Intentional Radiators

15.203 Antenna requirement

15.205 Restricted bands of operation

15.207 Conducted limits

15.209 Radiated emission limits; general requirements

15.214 Cordless telephones

15.221 Operation in the band 525-1705 kHz

15.229 Operation in the band 40.66-40.70 MHz

15.237 Operation in the bands 72.0-73.0 MHz, 74.6-74.8 MHz, and 75.2-76.0 MHz

15.245 Operation within the bands 902-928 MHz, 2435-2465 MHz, 5785-5815 MHz, 10500-10550 MHz, and 14075-14175 MHz

15.247 Operation within the bands 902-928 MHz, 2400-2483.5 MHz, and 5725-5850 MHz

15.249 Operations within the bands 902-928 MHz, 2400-2483.5 MHz, 5725-2875 MHz, and 24.0-24.25 GHz 6

PART 2—FREQUENCY ALLOCATIONS AND RADIO TREATY MATTERS; GENERAL RULES AND REGULATIONS

Subpart A— Terminology

Brief Description: This rule provides definitions for terms used in rules.

Need: This rule is essential for the implementation and understanding of other rule sections.

Legal Basis: 47 U.S.C. 302

Section Number and Title:

2.1(c) Definitions

PART 2—FREQUENCY ALLOCATIONS AND RADIO TREATY MATTERS; GENERAL RULES AND REGULATIONS

Subpart B—Allocation, Asignment and Use of Radio Frequencies

Brief Description: These rules display the Table of Frequency Allocations, which sets forth a “road map” of the service allocations of radio frequency spectrum throughout the world. The Table of Allocations also indicates how spectrum is allocated among Federal Government users, who are subject to the regulatory jurisdiction of the Department of Commerce's National Telecommunications and Information Administration, and non-Federal users, who are subject to the Commission's jurisdiction. The table further shows the services to which the various spectrum bands are allocated. The precise technical rules governing each service regulated by the Commission, however, are set forth in the several other parts of the Commission's rules.

Need: These rules are promulgated to promote the efficient use of the radio spectrum in order to prevent harmful interference among users of radio frequencies, to ensure safety of life and property, and to promote interoperability among radio frequencies throughout the world.

Legal Basis: 47 U.S.C. 154, 303.

Section Number and Title:

2.107 Table of Frequency Allocations

Subpart J—Equipment Authorization Procedures

Brief Description: These rules provide technical standards for radio equipment and their part and components.

Need: These rules permit the Commission to carry out its responsibilities under the Communications Act and the various treaties and international regulations, and to promote the efficient utilization of the spectrum.

Legal Basis: 47 U.S.C. 154, 303.

Section Number and Title:

2.948 Description of measurement facilities

2.1033(b)(11) Application for certification

2.1055(a)(2) Measurements required; Frequency stability

Subpart K—Importation of Devices Capable of Causing Harmful Interference

Brief Description: These rules are designed to prevent interference from radio-frequency devices and to facilitate the filing of FCC Form 740 information regarding equipment importation.

Need: These rules control technical criteria, reducing filing and handling burden on both importers and the federal government, including the U.S. Customs Service.

Legal Basis: 27 U.S.C. 154(I), 302, 303(r).

Section Number and Title:

2.1201 Purpose

2.1202 Exclusions

2.1203 General requirement for entry into the U.S.A.

2.1204 Import conditions

2.1205 Filing of required declaration

2.1207 Examination of imported equipment

Subpart N—FCC Procedure for Testing Class A, B, and S Emergency Position Indicating Radiobeacons (EPIRBs)

Brief Description: These rules set standards for testing Class A, B, and S Emergency Position Indicating Radiobeacons (EPIRBs)

Need: These rules are necessary to provide manufacturers with information necessary to develop EPIRB equipment that will comply with technical standards, and to ensure the appropriate measurement of such equipment to determine its compliance with our technical rules.

Legal Basis: 47 U.S.C. 154, 302

Section Number and Title:

2.1502 Introduction

2.1503 Test environment

2.1506 Test instrumentation and equipment

2.1508 Test frequencies

2.1510 Environmental and duration tests

2.1512 Measurements of radiated emissions

2.1514 Measurements of modulation characteristics

2.1516 Spectral Measurements

2.1518 Data recording/reporting requirements

PART 5—EXPERIMENTAL RADIO SERVICE (OTHER THAN BROADCAST)

Subpart B—Applications and Licenses

Brief Description: These rules set out eligibility, application, licensing and operating procedures and requirements for experimental stations.

Need: These rules permit the experimentation in new radio technology and applications while ensuring the protection of incumbent services.

Legal Basis: 47 U.S.C. 154, 302, 307.

Section Number and Title:

5.51(c) Eligibility of license

5.53(b) Stations authorization required

PART 15—RADIO FREQUENCY DEVICES

Brief Description: These rules provide the parameters necessary to permit the unlicensed operation of radiofrequency devices, including specification of the levels of wanted and unwanted emissions and frequencies of permitted operation.

Need: These rules are necessary to promote the efficient use of the radio spectrum by preventing harmful interference to licensed radio services that share the same or nearby spectrum as unlicensed devices. Such licensed services include broadcast, cellular, safety-of-life communications, U.S. Government operations, and others.

Legal Basis: 47 U.S.C. 154, 302, 307.

Section Number and Title:

Subpart A—General

15.4 Definitions

15.32 Measurement standards

15.36 Measurement detector functions and bandwidths

15.38 Transition provisions for compliance with the rules

Subpart B—Unintentional Radiators

15.108 Conducted limits

15.110 Radiated emission limits

15.116 TV interface devices, including cable system terminal devices

15.120 Closed caption decoder requirements for analog television receivers

Subpart C—Intentional Radiators

15.204 Antenna requirement

15.206 Restricted bands of operation

15.208 Conducted limits

15.210 Radiated emission limits; general requirements

15.215 Cordless telephones

15.222 Operation in the band 525-1705 kHz

15.229 Operation in the band 40.66-40.70 MHz

15.238 Operation in the bands 72.0-73.0 MHz, 74.6-74.8 MHz, and 75.2-76.0 MHz

15.246 Operation within the bands 902-928 MHz, 2435-2465 MHz, 5785-5815 MHz, 10500-10550 MHz, and 14075-14175 MHz

15.248 Operation within the bands 902-928 MHz, 2400-2483.5 MHz, and 5725-5850 MHz

15.250 Operations within the bands 902-928 MHz, 2400-2483.5 MHz, 5725-2875 MHz, and 24.0-24.25 GHz

PART 76—MULTICHANNEL VIDEO AND CABLE TELEVISION SERVICE

Subpart A—General

Brief Description: The rules and regulations set forth in this section provide for the certification of cable television systems and for their operation in conformity with standards for carriage of television broadcast signals, program exclusivity, cablecasting, access channels, and related matters.

Need: Theses rules prescribe definitions of cable television terms and requirements for waivers for special relief, enforcement, complaints, as well as declaratory ruling procedures.

Legal basis: 47 U.S.C. 154, 303, 339

Section Number and Title:

76.5(jj) Definitions: Rural area.

76.5(kk) Definitions: Technically integrated.

76.7(e) General special relief, waiver, enforcement, complaint, show cause, forfeiture, and declaratory ruling procedures. Additional procedures and written submissions.

Subpart D—Carriage of Television Broadcast Signals

Brief Description: These rules provide for the carriage of television broadcast signals on cable television systems. Subject to the Commission's network nonduplication, syndicated exclusivity and sports broadcasting rules, cable systems must carry the entirety of the program schedule of every local television station carried pursuant to the Commission's mandatory carriage provisions or the retransmission consent provisions. A broadcaster and a cable operator may negotiate for partial carriage of the signal where the station is not eligible for must-carry rights, either because of the station's failure to meet the requisite definitions or because the cable system is outside the station's market area.

Need: These rules prescribe requirements and obligations concerning cable television system carriage of television broadcast signals.

Legal basis: 47 U.S.C. 154

Section Number and Title:

76.54(c) Significantly viewed signals, method to be followed for special showings.

Subpart G—Cablecasting

Brief Description: These rules provide for origination cablecasting concerning legally qualified candidates for public office, and rates charged for use of cable television systems by candidates in connection with campaign activities, including political files and fairness doctrines. Also, the rules include information concerning the rates, terms, conditions and all discounts and privileges offered to commercial advertisers be disclosed and made available to candidates They also prescribe provisions for origination cablecasting for any advertisements of or information concerning any lottery, gift, enterprise, or similar scheme offering prizes dependent in whole or in part upon lot of chance.

Need: These rules prescribe requirements that enable legally qualified political candidates to use cable television facilities.

Legal basis: 47 U.S.C. 154

Section Number and Title:

76.205 Origination cablecasts by legally qualified candidates for public office; equal opportunities.

76.206(a)(1)(i)(ii) Candidates Rates. Charges for use of cable television systems.

76.206(2) Candidates Rates. Charges for use of cable television systems.

76.207 Political file (This section was renumbered as Section 76.1701 pursuant to the Commission's reorganization and renumbering of Section 76 as part of the 1998 Biennial Review-Multichannel Video and Cable Television Service, 65 FR 53610).

76.213(c) Lotteries.

76.213(e) Lotteries.

76.221(a) Sponsorship identification. (This section was renumbered as Section 76.1715 pursuant to the Commission's reorganization and renumbering of Section 76 as part of the 1998 Biennial Review-Multichannel Video and Cable Television Service, 65 FR 53610).

76.225 Commercial limits in children's programs

Subpart H—General Operating Requirements

Brief Description: These rules provide guidelines for general operation requirements including customer service obligations and cable records which must be made available to the public for inspection are provided for in this section.

Need: These rules prescribe general operating and recordkeeping requirements for cable television systems.

Legal basis: 47 U.S.C. 154, 521

Section number and Title:

76.305(a) Records to be maintained locally by cable system operators. Recordkeeping requirements. (This section was renumbered as 76.1700(a) pursuant to the Commission's reorganization and renumbering of Section 76 as part of the 1998 Biennial Review—Multichannel Video and Cable Television Service, 65 FR 53610).

76.305(c) Records to be maintained locally by cable system operators. (This section was renumbered as 76.1700(c) pursuant to the Commission's reorganization and renumbering of Section 76 as part of the 1998 Biennial Review—Multichannel Video and Cable Television Service). (65 FR 53610)

Subpart J—Ownership of Cable Systems

Brief Description: The Commission rules restrict the ability of television broadcast stations, national television networks, MMDS, and SMATV systems to own or control interests in cable systems. These rules also restrict the ownership interest of cable operators and their ability to own or control video programming services. While there are no prohibitions on foreign ownership of cable television systems, foreign governments or their representatives may not own CARS stations.

Need: This section prescribes rules for the diversity of cable television system ownership and restrictions on ownership interests by video programming providers.

Legal basis: 47 U.S.C. 154, 533

Section Number and Title:

76.501 Cross-ownership.

Subpart K—Technical Standards

Brief description: These rules provide technical performance standards for the operation of cable television systems to ensure the delivery of satisfactory television signals to cable subscribers. Local franchising authorities are generally authorized to enforce these technical standards through their franchising process.

Need: These rules prescribe technical standards applicable to cable television service.

Legal basis: 47 U.S.C. 154, 303, and 601

Section Number and Title:

76.601 (c)(1) Performance Tests

76.601 (c)(2) Performance Tests

76.601 (c)(4) Performance Tests

76.601 Note Performance Tests

76.605 (a) Technical Standards

76.605 (b) Technical Standards

76.605 (Note 1) Note 1

76.605 (Note 2) Note 2

76.605 (Note 3) Note 3

76.605 (Note 4) Note 4

76.605 (Note 5) Note 5

76.605 (Note 6) Note 6

76.606 Closed Captioning

76.607 Complaint Resolution (This section was renumbered as Section 76.1713 pursuant to the Commission's reorganization and renumbering of Section 76 as part of the 1998 Biennial Review—Multichannel Video and Cable Television Service, 65 FR 53610).

76.609 (d)(2) Measurements

76.609 (e) Measurements

76.609 (g) Measurements

76.609 (h)(2) Measurements

76.609 (j) Measurements

PART 78—CABLE TELEVISION RELAY SERVICE

Subpart A—General

Brief Description: The rules and regulations prescribe regulations, definitions and other pertinent rules relating to cable television relay service (CARS).

Need: These rules set forth guidelines for the licensing and operation of fixed or mobile cable television relay service stations (CARS) used for the transmission of television and related audio signals, signals of standard and FM broadcast stations, signals of instructional television fixed stations, and cablecasting from the point of reception to a terminal point from which the signals are distributed to the public by cable.

Legal basis: 47 U.S.C. 154, 303

Section Number and Title:

78.3 Other pertinent rules

78.5 (g) Definitions: Unattended operation.

Subpart B—Applications and Licenses

Brief Description: These rules set forth procedures for applying for licenses to operate cable antenna relay service stations. Cable systems uses these microwave relay stations to obtain certain signals when it is impractical to use cable delivery. Cable operators may purchase microwave relay service from companies providing such common carrier services, or they may operate their own relay stations licensed by the Commission.

Need: These rules prescribe application and licensing requirements applicable to cable television relay service.

Legal basis: 47 U.S.C. 154, 303.

Section Number and Title:

78.11 (a) Permissible service

78.11 (c) Permissible service

78.11 (d) Permissible service

78.11 (e) Permissible service

78.11 (f) Permissible service

78.11 (g) Permissible service

78.13 (d) Eligibility for license

78.15 (c) Contents of applications

78.27 (a) License conditions

78.33 (b) Special temporary authority

78.105 (a)(1) Antenna systems

78.105 (b) Antenna systems

PART 1—PRACTICE AND PROCEDURE

Subpart C—Rulemaking Proceedings

Brief Description: This rule requires that, whenever an expression of interest has been filed in a proceeding to amend the FM or TV Table of Allotments, and the filing party seeks to dismiss or withdraw the expression of interest, the party must file with the Commission a request for approval of the dismissal or withdrawal.

Need: Without the requirement, the Commission could not monitor the Tables.

Legal Basis: 47 U.S.C. 154, 303, 307.

Section Number and Title:

1.420 (j) Additional procedures in proceedings for amendment of the FM or TV Tables of Allotments.

PART 21—DOMESTIC PUBLIC FIXED RADIO SERVICES

Subpart K—Multipoint Distribution Service

Brief Description: These rules prescribe procedures for Multipoint Distribution Service (MDS) licensees in the domestic public fixed radio services.

Need: These rules are established to provide procedures for common carrier MDS licensees. These rules supply requirements for cable television and the competitive bidding process; instructions for specific application forms, partitioned service areas, basic trading areas, and all other procedures applicable to MDS.

Legal Basis: 47 U.S.C. 151, 154, 201, 202, 203 204, 205, 208, 215, 218, 303, 307, 313, 314, 403, 404, 552, 554, 602.

Section Number and Title:

21.911 Annual reports.

21.914 Mutually-exclusive MDS applications.

PART 73—RADIO BROADCAST SERVICES

Subpart A—AM Broadcast Stations

Brief Description: These rules provide for compliance and authorization of AM radio equipment and licenses.

Need: These rules prescribe certain technical requirements and procedures for AM broadcast radio services.

Legal Basis: 47 U.S.C. 154, 303, 334, 336.

Section Number and Title:

73.35 Calculation of improvement factors.

73.151 Field strength measurements to establish performance of directional antennas.

73.152 Modification of directional antenna data.

73.183 Groundwave signals.

Subpart B—FM Broadcast Stations

Brief Description: These rules provide for compliance and authorization of FM radio equipment and licenses.

Need: These rules prescribe certain technical requirements and procedures for FM broadcast radio services.

Legal Basis: 47 U.S.C. 154, 303, 334, 336.

Section Number and Title:

73.208 Reference points and distance computations.

73.215 Contour protection for short stations.

Subpart E—Television Broadcast Stations

Brief Description: These rules provide for compliance and authorization of television broadcast equipment and licenses.

Need: These rules prescribe certain technical requirements and operating procedures for television broadcast services.

Legal Basis: 47 U.S.C. 154, 155, 303, 334, 336.

Section Number and Title:

73.670 Commercial limits in children's programs.

73.687 Transmission system requirements.

Subpart H—Rules Applicable to all Broadcast Stations

Brief Description: These rules provide for compliance and authorization of all broadcast services.

Need: These rules prescribe operating procedures applicable to all broadcast services.

Legal Basis: 47 U.S.C. 154, 303, 334, 336.

Section Number and Title:

73.1212 Sponsorship identification; list retention; related requirements.

73.1217 Broadcast hoaxes.

73.1942 Candidate rates.

73.1943 Political file.

73.1944 Reasonable access.

73.3556 Duplication of programming on commonly owned or time brokered stations.

73.3588 Dismissal of petitions to deny or withdrawal of informal objections.

73.3589 Threats to file petitions to deny or informal objections.

PART 74—EXPERIMENTAL RADIO, AUXILIARY, SPECIAL BROADCAST AND OTHER PROGRAM DISTRIBUTIONAL SERVICES

Subpart D—Remote Pickup Broadcast Stations

Brief Description: This rule prescribes the frequency, type of equipment and method that a remote pickup broadcast station shall use when identifying itself on the air.

Need: Operators identify their remote pickup broadcast stations using the means described in this rule. Without this rule, the Commission and the public would be unable to identify the station.

Legal Basis: 47 U.S.C. 154, 303, 307, 554.

Section Number and Title:

74.482 Station identification.

Subpart E—Aural Broadcast Auxiliary Stations

Brief Description: This rule assists in prescribing operating procedures exclusive to aural broadcast auxiliary stations.

Need: This rule describes the different classes of aural broadcast auxiliary stations, which assists parties in determining which operating procedures apply to a particular station.

Legal Basis: 47 U.S.C. 154, 303, 307, 554.

Section Number and Title:

74.501 Classes of aural broadcast auxiliary stations.

Subpart I—Instructional Television Fixed Service

Brief Description: These rules prescribe operating procedure exclusive to instructional television fixed service stations.

Need: These rules promote procedures for instructional television fixed service (ITFS) broadcasting stations, frequencies on fixed broadcast stations, fixed service applications, multi-channel distribution and all other procedures applicable to television fixed service.

Legal Basis: 47 U.S.C. 154, 303, 307, 554.

Section Number and Title:

74.986 Involuntary ITFS station modifications.

74.990 Use of available instructional television fixed service frequencies by wireless cable entities.

74.991 Wireless cable application procedures.

74.992 Access to channels licensed to wireless cable entities.

Subpart L—FM Broadcast Translator Stations and FM Broadcast Booster Stations

Brief Description: These rules prescribe operating procedures exclusive to FM broadcast translator and FM broadcast booster stations.

Need: These rules provide procedures pertaining to transmitting FM signal channels for primary stations, FM radio broadcast stations, and FM booster stations.

Legal Basis: 47 U.S.C. 154, 303, 307, 554.

Section Number and Title:

74.1201 Definitions.

74.1205 Protection of channel 6 TV broadcast stations.

PART 1—PRACTICE AND PROCEDURE

Subpart C—Rulemaking Proceedings

Brief Description: This rule requires that, whenever an expression of interest has been filed in a proceeding to amend the FM or TV Table of Allotments, and the filing party seeks to dismiss or withdraw the expression of interest, the party must file with the Commission a request for approval of the dismissal or withdrawal.

Need: Without the requirement, the Commission could not monitor the Tables.

Legal Basis: 47 U.S.C. 154, 303, 307.

Section Number and Title:

1.420 (j) Additional procedures in proceedings for amendment of the FM or TV Tables of Allotments.

PART 21—DOMESTIC PUBLIC FIXED RADIO SERVICES

Subpart K—Multipoint Distribution Service

Brief Description: These rules prescribe procedures for Multipoint Distribution Service (MDS) licensees in the domestic public fixed radio services.

Need: These rules are established to provide procedures for common carrier MDS licensees. These rules supply requirements for cable television and the competitive bidding process; instructions for specific application forms, partitioned service areas, basic trading areas, and all other procedures applicable to MDS.

Legal Basis: 47 U.S.C. 151, 154, 201, 202, 203, 204, 205, 208, 215, 218, 303, 307, 313, 314, 403, 404, 552, 554, 602.

Section Number and Title:

21.911 Annual reports.

21.914 Mutually-exclusive MDS applications.

PART 73—RADIO BROADCAST SERVICES

Subpart A-AM Broadcast Stations

Brief Description: These rules provide for compliance and authorization of AM radio equipment and licenses.

Need: These rules prescribe certain technical requirements and procedures for AM broadcast radio services.

Legal Basis: 47 U.S.C. 154, 303, 334, 336.

Section Number and Title:

73.35 Calculation of improvement factors.

73.151 Field strength measurements to establish performance of directional antennas.

73.152 Modification of directional antenna data.

73.183 Groundwave signals.

Subpart B—FM Broadcast Stations

Brief Description: These rules provide for compliance and authorization of FM radio equipment and licenses.

Need: These rules prescribe certain technical requirements and procedures for FM broadcast radio services.

Legal Basis: 47 U.S.C. 154, 303, 334, 336.

Section Number and Title:

73.208 Reference points and distance computations.

73.215 Contour protection for short-spaced stations.

Subpart E—Television Broadcast Stations

Brief Description: These rules provide for compliance and authorization of television broadcast equipment and licenses.

Need: These rules prescribe certain technical requirements and operating procedures for television broadcast services.

Legal Basis: 47 U.S.C. 154, 155, 303, 334, 336.

Section Number and Title:

73.670 Commercial limits in children's programs.

73.687 Transmission system requirements.

Subpart H—Rules Applicable to All Broadcast Stations

Brief Description: These rules provide for compliance and authorization of all broadcast services.

Need: These rules prescribe operating procedures applicable to all broadcast services.

Legal Basis: 47 U.S.C. 154, 303, 334, 336.

Section Number and Title:

73.1212 Sponsorship identification; list retention; related requirements.

73.1217 Broadcast hoaxes.

73.1942 Candidate rates.

73.1943 Political file.

73.1944 Reasonable access.

73.3556 Duplication of programming on commonly owned or time brokered stations.

73.3588 Dismissal of petitions to deny or withdrawal of informal objections.

73.3589 Threats to file petitions to deny or informal objections.

PART 74—EXPERIMENTAL RADIO, AUXILIARY, SPECIAL BROADCAST AND OTHER PROGRAM DISTRIBUTIONAL SERVICES

Subpart D—Remote Pickup Broadcast Stations

Brief Description: This rule prescribes the frequency, type of equipment and method that a remote pickup broadcast station shall use when identifying itself on the air.

Need: Operators identify their remote pickup broadcast stations using the means described in this rule. Without this rule, the Commission and the public would be unable to identify the station.

Legal Basis: 47 U.S.C. 154, 303, 307, 554.

Section Number and Title:

74.482 Station identification.

Subpart E—Aural Broadcast Auxiliary Stations

Brief Description: This rule assists in prescribing operating procedures exclusive to aural broadcast auxiliary stations.

Need: This rule describes the different classes of aural broadcast auxiliary stations, which assists parties in determining which operating procedures apply to a particular station.

Legal Basis: 47 U.S.C. 154, 303, 307, 554.

Section Number and Title:

74.501 Classes of aural broadcast auxiliary stations.

Subpart I—Instructional Television Fixed Service

Brief Description: These rules prescribe operating procedure exclusive to instructional television fixed service stations.

Need: These rules promote procedures for instructional television fixed service (ITFS) broadcasting stations, frequencies on fixed broadcast stations, fixed service applications, multi-channel distribution and all other procedures applicable to television fixed service.

Legal Basis: 47 U.S.C. 154, 303, 307, 554.

Section Number and Title:

74.986 Involuntary ITFS station modifications.

74.990 Use of available instructional television fixed service frequencies by wireless cable entities.

74.991 Wireless cable application procedures.

74.992 Access to channels licensed to wireless cable entities.

Subpart L—FM Broadcast Translator Stations and FM Broadcast Booster Stations

Brief Description: These rules prescribe operating procedures exclusive to FM broadcast translator and FM broadcast booster stations.

Need: These rules provide procedures pertaining to transmitting FM signal channels for primary stations, FM radio broadcast stations, and FM booster stations.

Legal Basis: 47 U.S.C. 154, 303, 307, 554.

Section Number and Title:

74.1201 Definitions.

74.1205 Protection of channel 6 TV broadcast stations.

PART 1—PRACTICE AND PROCEDURE

Subpart C—Rulemaking Proceedings

Brief Description: This rule requires that, whenever an expression of interest has been filed in a proceeding to amend the FM or TV Table of Allotments, and the filing party seeks to dismiss or withdraw the expression of interest, the party must file with the Commission a request for approval of the dismissal or withdrawal.

Need: Without the requirement, the Commission could not monitor the Tables.

Legal Basis: 47 U.S.C. 154, 303, 307.

Section Number and Title:

1.420(j) Additional procedures in proceedings for amendment of the FM or TV Tables of Allotments.

PART 21—DOMESTIC PUBLIC FIXED RADIO SERVICES

Subpart K—Multipoint Distribution Service

Brief Description: These rules prescribe procedures for Multipoint Distribution Service (MDS) licensees in the domestic public fixed radio services.

Need: These rules are established to provide procedures for common carrier MDS licensees. These rules supply requirements for cable television and the competitive bidding process; instructions for specific application forms, partitioned service areas, basic trading areas, and all other procedures applicable to MDS.

Legal Basis: 47 U.S.C. 151, 154, 201, 202, 203 204, 205, 208, 215, 218, 303, 307, 313, 314, 403, 404, 552, 554, 602.

Section Number and Title:

21.911 Annual reports.

21.914 Mutually-exclusive MDS applications.

PART 73—RADIO BROADCAST SERVICES

Subpart A—AM Broadcast Stations

Brief Description: These rules provide for compliance and authorization of AM radio equipment and licenses.

Need: These rules prescribe certain technical requirements and procedures for AM broadcast radio services.

Legal Basis: 47 U.S.C. 154, 303, 334, 336.

Section Number and Title:

73.35 Calculation of improvement factors.

73.151 Field strength measurements to establish performance of directional antennas.

73.152 Modification of directional antenna data.

73.183 Groundwave signals.

Subpart B—FM Broadcast Stations

Brief Description: These rules provide for compliance and authorization of FM radio equipment and licenses.

Need: These rules prescribe certain technical requirements and procedures for FM broadcast radio services.

Legal Basis: 47 U.S.C. 154, 303, 334, 336.

Section Number and Title:

73.208 Reference points and distance computations.

73.215 Contour protection for short-spaced stations.

Subpart E—Television Broadcast Stations

Brief Description: These rules provide for compliance and authorization of television broadcast equipment and licenses.

Need: These rules prescribe certain technical requirements and operating procedures for television broadcast services.

Legal Basis: 47 U.S.C. 154, 155, 303, 334, 336.

Section Number and Title:

73.670 Commercial limits in children's programs.

73.687 Transmission system requirements.

Subpart H—Rules Applicable to All Broadcast Stations

Brief Description: These rules provide for compliance and authorization of all broadcast services.

Need: These rules prescribe operating procedures applicable to all broadcast services.

Legal Basis: 47 U.S.C. 154, 303, 334, 336.

Section Number and Title:

73.1212 Sponsorship identification; list retention; related requirements.

73.1217 Broadcast hoaxes.

73.1942 Candidate rates.

73.1943 Political file.

73.1944 Reasonable access.

73.3556 Duplication of programming on commonly owned or time brokered stations.

73.3588 Dismissal of petitions to deny or withdrawal of informal objections.

73.3589 Threats to file petitions to deny or informal objections.

PART 74—EXPERIMENTAL RADIO, AUXILIARY, SPECIAL BROADCAST AND OTHER PROGRAM DISTRIBUTIONAL SERVICES

Subpart D—Remote Pickup Broadcast Stations

Brief Description: This rule prescribes the frequency, type of equipment and method that a remote pickup broadcast station shall use when identifying itself on the air.

Need: Operators identify their remote pickup broadcast stations using the means described in this rule. Without this rule, the Commission and the public would be unable to identify the station.

Legal Basis: 47 U.S.C. 154, 303, 307, 554.

Section Number and Title:

74.482 Station identification.

Subpart E—Aural Broadcast Auxiliary Stations

Brief Description: This rule assists in prescribing operating procedures exclusive to aural broadcast auxiliary stations.

Need: This rule describes the different classes of aural broadcast auxiliary stations, which assists parties in determining which operating procedures apply to a particular station.

Legal Basis: 47 U.S.C. 154, 303, 307, 554.

Section Number and Title:

74.501 Classes of aural broadcast auxiliary stations.

Subpart I—Instructional Television Fixed Service

Brief Description: These rules prescribe operating procedure exclusive to instructional television fixed service stations.

Need: These rules promote procedures for instructional television fixed service (ITFS) broadcasting stations, frequencies on fixed broadcast stations, fixed service applications, multi-channel distribution and all other procedures applicable to television fixed service.

Legal Basis: 47 U.S.C. 154, 303, 307, 554.

Section Number and Title:

74.986 Involuntary ITFS station modifications.

74.990 Use of available instructional television fixed service frequencies by wireless cable entities.

74.991 Wireless cable application procedures.

74.992 Access to channels licensed to wireless cable entities.

Subpart L—FM Broadcast Translator Stations and FM Broadcast Booster Stations

Brief Description: These rules prescribe operating procedures exclusive to FM broadcast translator and FM broadcast booster stations.

Need: These rules provide procedures pertaining to transmitting FM signal channels for primary stations, FM radio broadcast stations, and FM booster stations.

Legal Basis: 47 U.S.C. 154, 303, 307, 554.

Section Number and Title:

74.1201 Definitions.

74.1205 Protection of channel 6 TV broadcast stations.

Common Carrier Bureau's List of Rules for Review Pursuant to the Regulatory Flexibility Act of 1980, 5 U.S.C. 610 for 2000, 2001, 2002

All listed rules are in Title 47 of the Code of Federal Regulations.

PART 1—PRACTICE AND PROCEDURE

Subpart I—Procedures Implementing the National Environmental Policy Act of 1969

Brief Description: The rules contained in subpart 1 implement the requirements of the National Environmental Policy Act (NEPA) as well as a series of other federal environmental laws, such as the Endangered Species Act of 1973, as amended, the National Historic Preservation Act of 1966, the Wilderness Act of 1964, as amended, laws relating to Indian Ceremonial Sites and the Wildlife Refuge Laws. In addition the Commission's environmental rules implement Executive Orders regarding flood plains and wetlands regulation. By statute and/or as set forth in the regulations of the Council on Environmental Quality (CEQ), the Commission is responsible for ensuring compliance with these laws. The rules also identify certain special issues for consideration, including the impact of high-intensity white lights on towers in residential neighborhoods and the effect of radiofrequency emissions on the human environment.

Need: The Commission's environmental rules identify those sensitive environmental issues which Commission licensees must address. As the primary Federal agency managing and licensing radio spectrum broadcasters, wireless telephone carriers and other public and private radio users, the Commission complies with NEPA by requiring its licensees to assess and, if found, report the potential environmental consequences of their proposed projects.

Legal Basis: 47 U.S.C. 154(i), 154(j), and 303(r).

Section Number and Title:

1.1303 Scope.

1.1306 Actions which are categorically excluded from environmental processing.

1.1307 Actions that may have a significant environmental effect, for which Environmental Assessments (EAs) must be prepared.

1.1312 Facilities for which no preconstruction authorization is required.

PART 36—JURISDICTIONAL SEPARATIONS PROCEDURES; STANDARD PROCEDURES FOR SEPARATING TELECOMMUNICATIONS PROPERTY COSTS, REVENUES, EXPENSES, TAXES AND RESERVES FOR TELECOMMUNICATIONS COMPANIES

Brief Description: This rule contains procedures and standards for allocating telephone company investment, expenses, taxes, and reserves between the state and federal jurisdictions.

Need: This rule permits carriers that serve high-cost areas to allocate additional local loop costs to the interstate jurisdiction and recover those costs through the universal service mechanism.

Legal Basis: Sec. 4; 48 Stat. 1066, as amended, 47 U.S.C. 154. Sec. 205, 219, 220, 221(c), 48 Stat. 1077 as amended, 1078; 47 U.S.C. 154, 205, 219, 220, 221(c).

Subpart F—Universal Service Fund

Section Number and Title:

36.601 General.

36.621 Study area total unseparated loop cost.

36.622 National and study area average unseparated loop costs.

PART 61—TARIFFS

Subpart H—Applications for Special Permission

Brief Description: The Part 61 rules are designed to implement the provisions of sections 201, 202, 203 and 204 of the Communications Act and ensure that rates are just, reasonable, and not unjustly or unreasonably discriminatory. The Part 61 rules govern the filing, form, content, public notice periods, and accompanying support materials for tariffs. Part 61 rules also establish the pricing rules and related requirements that apply to incumbent local exchange carriers that are subject to price cap regulation.

Need: At the time the Commission implemented the Treasury Department Lockbox Collection Program for all fees, requiring that submissions with fees be filed only with the lockbox bank in Pittsburgh, the tariff rules were revised to specify that any special permission application must be filed with the fee payment at the lockbox bank, while the attachments must be filed at the Office of the Secretary.

Legal Basis: 47 U.S.C. 154, 201, 202, 203, 205, 403.

Section Numbers and Titles:

61.151 Scope.

61.152 Terms of applications and grants.

PART 64—MISCELLANEOUS RULES RELATING TO COMMON CARRIERS

Subpart I—Procedures Implementing the Telecommunication Relay Services and Related Customer Premises Equipment for Persons With Disabilities

Brief Description: Title IV of the Americans with Disabilities Act (ADA), which is codified at section 225 of the Communications Act of 1934, as amended (the Act), mandates that the Commission ensure that interstate and intrastate telecommunications relay services (TRS) are available, to the extent possible and in the most efficient manner, to individuals in the United States with hearing and speech disabilities. Title IV aims to further the Act's goal of universal service by providing to individuals with hearing or speech disabilities, telephone services that are functionally equivalent to those available to individuals without such disabilities. The ADA requires the Commission to establish functional requirements, guidelines, and operational procedures for TRS, and to establish minimum standards for carriers' provisioning of TRS. To establish a TRS that provides services which are functionally equivalent to telephone services available to voice users, Congress directed, among other things, that the Commission prohibit TRS providers from “failing to fulfill the obligations of common carriers by refusing calls.”

On July 26, 1991, the Commission released its First Report and Order on TRS. This item stated that, “the Commission is amending its rules to require that each common carrier providing telephone voice transmission services shall, no later than July 26, 1993, provide throughout the area in which it offers service, telecommunications relay services (TRS), individually, through designees, through a competitively selected vendor, or in concert with other carriers.”¹ This Report and Order adopted the Commission's Part 64, subpart F, rules.

¹ Telecommunications Services for Individuals with Hearing and Speech Disabilities, and the Americans with Disabilities Act of 1990, Report and Order and Request for Comments, CC Docket No. 90-571, 6 FCC Red 4657 (1991) (1991 Report and Order). See 47 CFR § 64.604(a)(3).

In addition, one part of payphone service within the purview of NSD (Part 64, Subpart F) concerns TRS. In its First Report and Order on TRS (1991), the Commission interpreted the ADA to require TRS providers to handle any type of call normally provided by common carriers, including coin sent paid TRS calls. Due to technical concerns, the Commission has not been able to enforce this requirement. Presently, a Report and Order is being written which would eliminate this requirement.

Need: This rule implements the provisions of the ADA of 1990.

Legal Basis: 47 U.S.C. 51, 54(I), 54(j), 201-205, and 403.

PART 64—MISCELLANEOUS RULES RELATING TO COMMON CARRIERS

Subpart B—Restrictions on Indecent Telephone Message Services

Brief Description: This rule implements the provisions of section 223(b) of the Act relating to defenses to prosecution for indecent commercial communications.

Need: This rule is intended to implement the statutory restrictions on commercial provision by telephone of indecent communications.

Legal Basis: Sec. 1, 4, 218-220, 223, 48 Stat. 1070, as amended; 47 U.S.C. 151, 154, 218-220, 223.

Section Number and Title:

64.201 Restrictions on indecent telephone message services.

Subpart G—Furnishing of Enhanced Services and Customer-Premises Equipment by Bell Operating Companies; Telephone Operator Services

Brief Description: This rule sets forth information that must be made available by operator service providers to consumers.

Need: This rule protects consumers by ensuring that they have access to useful information about the rates charged by operator service providers, and that they are able to reach the operator service provider of their choice.

Legal Basis: Sec. 1, 4, 218-220, 226, 48 Stat. 1070, as amended; 47 U.S.C. 151, 154, 218-220, 226.

Section Number and Title:

64.703 Consumer information.

64.707 Public dissemination of information by providers of operating services.

64.708 Definitions.

Subpart L—Restrictions on Telephone Solicitation

Brief Description: This rule imposes restrictions on telephone solicitation.

Need: This rule adopts measures to implement requirements designed to protect telephone subscribers from unsolicited telephone calls without unnecessarily restricting legitimate telephone marketing and sales.

Legal Basis: Sec. 1, 4, 218-220, 227, 48 Stat. 1070, as amended; 47 U.S.C. 151, 154, 218-220, 227.

Section Number ant Title:

64.1200 Delivery restrictions.

PART 64—MISCELLANEOUS RULES RELATING TO COMMON CARRIERS

Subpart N—Expanded Interconnection

Brief Description: This rule requires that larger incumbent local exchange carriers (LECs), which do not participate in the National Exchange Carrier Association tariff, must provide expanded interconnection. Subpart N requires these incumbent LECs to allow other parties to interconnect with their networks through physical or virtual collocation for the provision of interstate access and switched transport services. Any interested party, including competitive LECs, interexchange carriers, and end users may take expanded interconnection from the LECs subject to this rule.

Need: This rule promotes increased competition in the provision of interstate services by removing barriers to competitive provision of special access and switched transport services. In particular, subpart N makes collocation and interconnection available to parties not covered by Part 51 of the Commission's rules such as large businesses and universities.

Legal Basis: 47 U.S.C. 151, 154, and 201-205.

Section Number and Title:

64.1401 Expanded interconnection.

64.1402 Rights and responsibilities of interconnectors.

PART 68—CONNECTION OF TERMINAL EQUIPMENT TO THE TELEPHONE NETWORK

Subpart A—General

Brief Description: This rule defines the point of demarcation between customer premises telephone wiring and the line owned and/or controlled by the local exchange carrier.

Need: This rule is necessary to establish competition in the provision and maintenance of inside wire.

Legal Basis: 47 U.S.C. 151-154, 201-205, and 303(r).

Section Number and Title:

68.3 Definitions (Demarcation Point).

68.105 Minimum Point of Entry and Demarcation Point.

Brief Description: This rule requires that all telephones be compatible with hearing aid devices.

Need: This rule implements the provisions of the Hearing Aid Compatibility Act of 1988.

Legal Basis: 47 U.S.C. 151-154, 201-205, and 303(r).

Section Number and Title:

68.4 Hearing-aid Compatible Telephones.

Subpart B—Conditions on Use of Terminal Equipment

Brief Description: This rule authorizes telecommunications common carriers to discontinue service when harm occurs originating from customer-installed equipment.

Need: This rule allows telecommunications common carriers to avoid harm to the public switched telephone network and to other customers' service originating from customer-installed wiring or equipment.

Legal Basis: 47 U.S.C. 151-154, 201-205, and 303(r).

Section Number and Title:

68.108 Incidence of harm.

Brief Description: This rule requires the providers of wireline telecommunications notify customers that a temporary discontinuance of service may be required; afford the customer the opportunity to take corrective action; and, inform the customer of his right to file a complaint with the Commission.

Need: This rule specifies that public buildings and businesses must make available hearing aid compatible telephones, and by what date.

Legal Basis: 47 U.S.C. 151-154, 201-205, and 303(r).

Section Number and Title:

68.112 Hearing aid-compatibility.

Subpart C—Terminal Equipment Approval Procedures

Brief Description: This rule states the requirements pertaining to customer installation of inside wire that will protect the public switched telephone network.

Need: The rule directs customer premises wiring to be installed in such a way that it will not harm the public switched telephone network.

Legal Basis: 47 U.S.C. 151-154, 201-205, and 303(r).

Section Number and Title:

68.213 Installation of other than “fully protected” non-system simple customer premises wiring.

Subpart D—Conditions for Terminal Equipment Approval

Brief Description: This rule requires automatic dialing devices that deliver a recorded message to release the called party's telephone line promptly.

Need: Prior to this rule, automatic dialing devices delivering a recorded message could and did prevent a called party from acquiring a dial tone for an extended period of time. This rule avoids situations in which a called party cannot access his telephone line to make emergency and other calls.

Legal Basis: 47 U.S.C. 151-154, 201-205, and 303(r).

Section Number and Title:

68.318(c) Line seizure by automatic telephone dialing systems.

Brief Description: This rule requires that all customer premises equipment and software be capable of accessing operator service providers using equal access codes.

Need: This rule facilitates competition among operator service providers by requiring that all callers have access to 10XXX code services.

Legal Basis: 47 U.S.C. 151-154, 201-205, and 303(r).

Section Number and Title:

68.318(e) Requirement that registered equipment allow access to common carriers.

PART 69—ACCESS CHARGES

Subpart B—Computation of Charges

Brief Description: The Part 69 rules are designed to implement the provisions of sections 201 and 202 of the Communications Act and protect consumers by preventing the exercise of market power by incumbent local exchange carriers by ensuring that rates are just, reasonable, and not unjustly or unreasonably discriminatory. The requirement for a certain minimum set of access charge rate elements and the rate calculation rules for rate-of-return carriers also greatly reduce the resources required in the tariff review process.

Need: Section 69.101 was adopted to replace rate-of-return regulation with a form of incentive regulation, one that directly limits rates by means of price caps, for the largest local exchange carriers. Section 69.119 was adopted to stimulate the introduction of innovative new enhanced services. Section 69.120 established a new switched access element for queries by interexchange carriers to local exchange carrier line information databases. Section 69.127 was adopted to encourage efficient use of transport facilities by allowing pricing that reflects costs, creating a rate structure conducive to interexchange competition, and avoiding interference with the development of interstate access competition.

Legal Basis: 47 U.S.C. 154, 201, 202, 203, 205, 403.

Section Numbers and Titles:

69.101 General.

69.119 Basic service element expedited approval process.

69.120 Line information database.

69.127 Transitional equal charge rule.

Subpart D—Apportionment of Net Investment

Brief Description: The Part 69 rules protect customers from the exercise of market power by incumbent local exchange carriers. The requirement for a minimum set of access charge rate elements and the pricing rules for both rate-of-return and price-cap LECs greatly reduce the Commission resources required to ensure carrier compliance with sections 201 and 202 of the Communications Act. These requirements also greatly facilitate analysis of access charges by other interested parties.

Need: Section 69.301 was adopted to facilitate more cost-based pricing and greater efficiency in the provision of transport service.

Legal Basis: 47 U.S.C. z154, 201, 202, 203, 205, 218, 220, 403.

Section Number and Title:

69.301 General.

Subpart G—Exchange Carrier Association

Brief Description: The Part 69 rules also provide for the establishment of the National Exchange Carrier Association (NECA), which files tariffs on behalf of many of the smaller, rate-of-return local exchange carriers. Annual access tariff filings, including the average schedule formula changes filed by the National Exchange Carrier Association, were adopted to assure that rates would be reasonable, would reflect rules changes, and would become more closely aligned with costs.

Need: Previously, the National Exchange Carrier Association was required to file updates to its average schedule formula, or certify that no change was required, by June 30 each year, which was six months before the January 1 effective date of the annual access tariffs. In the same rulemaking that changed the effective date for annual access tariffs from January 1 to July 1, the average schedule formula filing deadline was extended from June 30 to December 31 each year, six months before the effective date for annual access tariffs.

Legal Basis: 47 U.S.C. 154, 201, 202, 203, 205, 218, and 403 and 5 U.S.C. 553.

Section Numbers and Titles:

69.606 Computation of average schedule company payments.

[FR Doc. 02-26429 Filed 10-21-02; 8:45 am]

BILLING CODE 6712-01-P